DEPARTMENT OF COMMERCE

National Oceanic and Atmospheric Administration

[RTID 0648-XC697]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-day in-person meeting of its Data Collection Advisory Panel (AP).

DATES: The meeting will be held Monday, February 13, 2023; 9 a.m.-4 p.m., EST.

ADDRESSES: The meeting will take place at the Gulf Council office. Registration information will be available on the Council's website by visiting www.gulfcouncil.org and clicking on the “meeting tab”.

Council address: Gulf of Mexico Fishery Management Council, 4107 W. Spruce Street, Suite 200, Tampa, FL 33607; telephone: (813) 348-1630.

FOR FURTHER INFORMATION CONTACT: Dr. Lisa Hollensead, Fishery Biologist, Gulf of Mexico Fishery Management Council; lisa.hollensead@gulfcouncil.org, telephone: (813) 348-1630.

SUPPLEMENTARY INFORMATION:

Monday, February 13, 2023; 9 a.m.-4 p.m., EST.

The meeting will begin with Introductions, Election of Chair and Vice Chair, Adoption of Agenda, Approval of Meeting Summary from the September 14, 2021 meeting, and review of Scope of Work. Following, the Advisory Panel will review and discuss the following presentations and background materials for Proposed Electronic Reporting in the Commercial Coastal Logbook Program, Update on the Southeast For-Hire Integrated Electronic Reporting program, State Specific Private Angler Licensing and Reporting Requirements, Mote Marine Lab on Electronic Monitoring Research and Development of Fishery Ecosystem Plan.

The Advisory Panel will discuss any items under Other Business and review public comment, if any.

— Meeting Adjourns

The meeting will also be broadcast via webinar. You may register for the webinar by visiting www.gulfcouncil.org and clicking on the AP meeting on the calendar.

The Agenda is subject to change, and the latest version along with other meeting materials will be posted on www.gulfcouncil.org as they become available.

Special Accommodations

The meeting is physically accessible to people with disabilities. Requests for sign language interpretation or other auxiliary aid should be directed to Kathy Pereira, (813) 348-1630, at least 5 days prior to the meeting date.

Authority: 16 U.S.C. 1801 et seq.

Dated: January 19, 2023.
Rey Israel Marquez,
Acting Deputy Director, Office of Sustainable Fisheries, National Marine Fisheries Service.

[FR Doc. 2023-01310 Filed 1-23-23; 8:45 am]

BILLING CODE 3510-22-P